DEPARTMENT OF COMMERCE

International Trade Administration

[C-549-824]

Final Negative Countervailing Duty Determination: Bottle-Grade Polyethylene Terephthalate (PET) Resin From Thailand

AGENCY: Import Administration, International Trade Administration, Department of Commerce.

SUMMARY: The Department of Commerce (the Department) has reached a final determination that countervailable subsidies are not being provided to producers of bottle-grade (BG) PET Resin from Thailand. For information on the estimated countervailable subsidy rates, please see the “Final Determination” section of this notice.

DATES: Effective Date: March 21, 2005.

FOR FURTHER INFORMATION CONTACT: Dara Iserson or Thomas Gilgunn, AD/CVD Operations, Office 6, Import Administration, U.S. Department of Commerce, Room 7866, 14th Street and Constitution Avenue, NW., Washington, DC 20230; telephone: (202) 482-4052 and (202) 482-4236, respectively.

SUPPLEMENTARY INFORMATION:

Case History

On August 30, 2004, the Department published the Preliminary Negative Countervailing Duty Determination and Alignment With Final Antidumping Duty Determination: Bottle-Grade Polyethylene Terephthalate (PET) Resin From Thailand, 69 FR 52862 (August 30, 2004) (Preliminary Determination). Since the Preliminary Determination, the Department issued additional supplemental questionnaires to, and conducted verification of the responses provided by, the Royal Thai Government (RTG), Bangkok Polyester Company (BPC), Thai Shinkong Industry Corporation Limited (Thai Shinkong), Indopet Thailand Limited (Indopet), and Asiapet Thailand Limited (Asiapet) (collectively—“Respondents”).

The Department issued the RTG, Indopet, Thai Shinkong, and BPC verification reports on January 10, 2005. See Memoranda to the File from Thomas Gilgunn to Dana Mermelstein, Countervailing Duty Investigation of Bottle Grade Polyethylene Terephthalate (PET) Resin from Thailand: Verification of the Questionnaire Responses Submitted by the Royal Thai Government (RTG); Countervailing Duty Investigation of Bottle Grade Polyethylene Terephthalate (PET) Resin from Thailand: Verification of the Questionnaire Responses Submitted by Indopet (Thailand) Limited (Indopet); Countervailing Duty Investigation of Bottle Grade Polyethylene Terephthalate (PET) Resin from Thailand: Verification of the Questionnaire Responses Submitted by Thai Shinkong Industry Company Limited (Thai Shinkong); and Countervailing Duty Investigation of Bottle Grade Polyethylene Terephthalate (PET) Resin from Thailand: Verification of the Questionnaire Responses Submitted by Bangkok Polyester Public Company Limited (BPC). On January 18, 2005, the Department issued the Asiapet verification report. see Countervailing Duty Investigation of Bottle Grade Polyethylene Terephthalate (PET) Resin from Thailand: Verification of the Questionnaire Responses Submitted by Asiapet Thailand Limited (Asiapet).

On January 21, 2005, case briefs were filed by Petitioner and by all Respondents: RTG, Indopet, Asiapet, Thai Shinkong, and BPC. On January 26, 2005, Respondents and Petitioner filed their respective rebuttal briefs. On February 3, 2005, Respondents filed letter objecting to “untimely legal information” filed in the Petitioner's January 26, 2005, rebuttal brief. On February 7, 2005, Petitioners responded to the arguments raised in Respondent's February 3, 2005, letter. On February 9, 2005, the Department notified Petitioners that certain legal information raised in its January 26, 2005, rebuttal brief did not comply with section 351.309(d)(2) of the regulations. On February 10, 2005, Petitioner refiled its rebuttal brief.

Period of Investigation

The period of investigation (POI) for which we are measuring subsidies is January 1, 2003, through December 31, 2003, which corresponds to the most recently completed fiscal year for the respondent companies. See section 351.204(b)(2) of the Department's regulations.

Scope of the Investigation

The merchandise covered by this investigation is polyethylene terephthalate (PET) bottle-grade resin, defined as having an intrinsic viscosity of at least .68 deciliters per gram but not more than .86 deciliters per gram. The scope includes bottle-grade PET resin that contains various additives introduced in the manufacturing process. The scope does not include post-consumer recycle (PCR) or post-industrial recycle (PIR) PET resin; however, included in the scope is any bottle-grade PET resin blend of virgin PET bottle-grade resin and recycled PET (RPET). Waste and scrap PET are outside the scope of the investigation. Fiber-grade PET resin, which has an intrinsic viscosity of less than .68 deciliters per gram, is also outside the scope of the investigations.

The merchandise subject to this investigation is properly classified under subheading 3907.60.0010 of the Harmonized Tariff Schedule of the United States (HTSUS); however, merchandise classified under HTSUS subheading 3907.60.0050 that otherwise meets the written description of the scope is also subject to these investigations. Although the HTSUS subheadings are provided for convenience and customs purposes, the written description of the merchandise under investigation is dispositive.

Analysis of Comments Received

A detailed discussion of the issues of cross-ownership and attribution of subsidies raised by interested parties in their case and rebuttal briefs is contained in the Memorandum to the File from Dana Mermelstein to Barbara E. Tillman, Countervailing Duty Investigation of Bottle Grade Polyethylene Terephthalate (PET) Resin From Thailand: Attribution of Subsidies Received by Supplier Companies to Indopet (March 14, 2005) (Attribution Memorandum) because it includes business proprietary information.

All other issues raised by the interested parties in their case and rebuttal briefs are addressed in the “Issues and Decision Memorandum” (Decision Memorandum) dated March 14, 2005, which is hereby adopted by this notice. A list of the issues which parties have raised is attached to this notice as Appendix I. Parties can find a complete discussion of all issues raised in this investigation and the corresponding recommendations in this public memorandum, which is on file in the Central Records Unit (CRU). A complete version of the Decision Memorandum is available at http://www.ia.ita.doc.gov under the heading “Federal Register Notices.” The paper copy and the electronic version of the Decision Memorandum are identical in content.

Final Determination

In accordance with section 703(d)(1)(A)(i) of the Tariff Act of 1930, as amended (The Act), we have determined individual rates for Thai Shinkong, Bangkok Polyester, and Indopet. Section 705(c)(5)(A)(I) of the Act provides that the “all others” rate will generally be an amount equal to the weighted average countervailable subsidy rates established for exporters or producers individually investigated, excluding any zero or de minimis countervailable subsidy rates and any rates determined entirely on the basis of the facts available. In this case, however, the countervailable subsidy rates for all of the individually investigated exporters or producers are de minimis. Section 705(c)(5)(A)(ii) of the Act provides that, when this is the case, the administering authority may use any reasonable method to establish the “all others” rate, including averaging the weighted average countervailable subsidy rates determined for the exporters and producers individually examined. Thus, to calculate the “all others” rate, we weight-averaged the individual rates of Thai Shinkong, Bangkok Polyester, and Indopet, based on each company's respective exports of subject merchandise to the United States during the POI.

These rates are summarized in the table below:

Producer/exporter | Net subsidy rate (percent ad valorem)
Thai Shinkong Industry Corporation Ltd | 0.31
Bangkok Polyester Public Company Limited | 0.73
Indopet (Thailand) Limited | 0.70
All Others Rate | 0.47

These countervailable subsidy rates are de minimis, in accordance with section 703(b)(4)(B) of the Act and 19 CFR 351.106(b). Therefore, we determine that countervailable subsidies are not being provided to producers/exporters of bottle grade PET Resin from Thailand. See Section 705(a)(3) of the Act. In the Preliminary Determination, the total net countervailable subsidy rate was de minimis, therefore, we did not suspend liquidation. Since we determine that countervailable subsidies are not being provided to producers or exporters of BG PET Resin from Thailand, we will not direct U.S. Customs and Border Protection to suspend liquidation of entries of the subject merchandise from Thailand.

International Trade Commission (ITC) Notification

In accordance with section 705(d) of the Act, we will notify the ITC of our determination. In addition, we are making available to the ITC all non-priveleged and non-proprietary information related to this investigation. We will allow the ITC access to all privileged and business proprietary information in our files, provided that the ITC confirms that it will not disclose such information, either publicly or under administrative protective order (APO), without the written consent of the Assistant Secretary of Import Administration.

Return or Destruction of Proprietary Information

This notice will serve as the only reminder to parties subject to APO of their responsibility concerning the destruction of proprietary information disclosed under APO in accordance with 19 CFR 351.305(a)(3). Failure to comply is a violation of the APO.

This determination is issued and published in accordance with sections 705(d) and 777(i) of the Act.

Dated: March 14, 2005.
Joseph A. Spetrini,
Acting Assistant Secretary for Import Administration.

Appendix I: Issues and Decision Memorandum

Summary

I. Comments

Comment 1: Whether the Department Should Apply Adverse Facts Available (AFA) to BPC

Comment 2: The Selection of the Discount Rate for Allocating Subsidies Over Time

Comment 3: Whether the IPA Benetifits for BPC, Thai Shinkong, Indopet, and Asiapet are Export Contingent

Comment 4: The Selection of the Denominator for Calculating Ad Valorem Subsidy Rates

Comment 5: The Appropriate Method for Calculating Section 35(3) Benefits

Comment 6: Whether Cross-Ownership Between Indopet and Indopet's Suppliers Exists

Comment 7: Whether or Not Indopet, Thai Shinkong, and BPC Used Section 35(4) Benefits

II. Subsidies Valuation Information

A. Discount Rates

B. Allocation Period

C. Cross-Ownership and Attribution of Subsidies

D. Export Contingency

E. Denominator for Ad Valorem Subsidy Rates

III. Analysis of Programs

A. Programs Determined To Be Countervailable

Investment Incentives Under the Investment Promotion Act (IPA)

1. Duty Exemptions on Imports of Machinery Under IPA Section 28

2. Additional Income Tax Deductions Under IPA Section 35

B. Programs Determined To Be Not Countervailable

Duty Exemptions on Imports of Raw and Essential Materials Under IPA Section 36

C. Programs Determined To Be Not Used

1. Import Duty Exemptions on Raw and Essential Materials Under IPA Section 30

2. Corporate Income Tax Exemptions Under IPA Section 31

IV. Total Ad Valorem Rates

V. Analysis of the Comments

VI. Recommendation

[FR Doc. E5-1221 Filed 3-18-05; 8:45 am]

BILLING CODE 3510-DS-P